DEPARTMENT OF ENERGY

Federal Energy Regulatory Commission

[Docket Nos. CP15-550-000, CP15-551-000, and CP15-551-001]

Notice of Availability of the Draft Environmental Impact Statement for the Proposed Calcasieu Pass Project; Venture Global Calcasieu Pass, LLC, TransCameron Pipeline, LLC

The staff of the Federal Energy Regulatory Commission (FERC or Commission) has prepared a draft environmental impact statement (EIS) for the Calcasieu Pass Project, proposed by Venture Global Calcasieu Pass, LLC (Venture Global Calcasieu Pass) and TransCameron Pipeline, LLC (TransCameron Pipeline) in the above-referenced dockets. Venture Global Calcasieu Pass requests authorization to site, construct, and operate a natural gas liquefaction and storage facility, and marine export terminal in Cameron Parish, Louisiana. TransCameron Pipeline requests authorization to construct, install, and operate certain natural gas pipeline facilities also in Cameron Parish, Louisiana. The new liquefaction facilities would have a design production capacity of 12 million metric ton of liquefied natural gas (LNG) per annum.

The draft EIS assesses the potential environmental effects of the construction and operation of the Calcasieu Pass Project in accordance with the requirements of the National Environmental Policy Act. The FERC staff concludes that approval of the proposed project would have some adverse environmental impacts; however, all of these impacts would be reduced to less-than-significant levels with the implementation of Venture Global Calcasieu Pass' and TransCameron Pipeline's proposed mitigation measures and the additional measures recommended in the draft EIS.

The U.S. Army Corps of Engineers, U.S. Coast Guard, U.S. Department of Energy, U.S. Environmental Protection Agency, and U.S. Department of Transportation participated as cooperating agencies in the preparation of the draft EIS. Cooperating agencies have jurisdiction by law or special expertise with respect to resources potentially affected by the proposal and participate in the National Environmental Policy Act analysis. Although the cooperating agencies provided input on the conclusions and recommendations presented in the draft EIS, the agencies will present their own conclusions and recommendations in their respective Records of Decision for the project.

The draft EIS addresses the potential environmental effects of the construction and operation of the following project facilities:

• Nine integrated pre-cooled single mixed refrigerant (SMR) blocks;

• two full-containment aboveground LNG storage tanks, each with a usable capacity of approximately 200,000 cubic meters;

• a 1,500-foot by 3,000-foot turning basin adjacent to the Calcasieu River Ship Channel;

• two LNG berthing docks, each designed to handle carriers of 120,000 to 210,000 cubic meter cargo capacity;

• a 720 megawatt natural gas-fired combined cycle gas turbine electric generation facility;

• approximately 23.4 miles of 42-inch-diameter pipeline to bring feed gas from interconnections with ANR Pipeline Company, Texas Eastern Transmission, LP, and Bridgeline Holdings, LP to the terminal site;

• one meter station;

• three mainline valves; and

• one pig launcher at the meter station and one pig receiver at the gas gate station on the terminal site.

The FERC staff mailed copies of the draft EIS to federal, state, and local government representatives and agencies; elected officials; environmental and public interest groups; Native American tribes; potentially affected landowners and other interested individuals and groups; libraries in the project area; and parties to this proceeding. Paper copy versions of this EIS were mailed to those specifically requesting them; all others received a CD version. In addition, the EIS is available for public viewing on the FERC's website (www.ferc.gov) using the eLibrary link. A limited number of hardcopies of the EIS are available for distribution and public inspection at: Federal Energy Regulatory Commission Public Reference Room, 888 First Street NE, Room 2A, Washington, DC 20426, (202) 502-8371.

Any person wishing to comment on the draft EIS may do so. To ensure consideration of your comments on the proposal in the draft EIS, it is important that the Commission receive your comments on or before 5:00 p.m. Eastern Time on August 13, 2018.

For your convenience, there are four methods you can use to submit your comments with the Commission. The Commission will provide equal consideration to all comments received, whether filed in written form or provided verbally. The Commission encourages electronic filing of comments and has staff available to assist you at (866) 208-3676 or FercOnlineSupport@ferc.gov. Please carefully follow these instructions so that your comments are properly recorded.

(1) You can file your comments electronically using the eComment feature located on the Commission's website (www.ferc.gov) under the link to Documents and Filings. This is an easy method for submitting brief, text-only comments on a project;

(2) You can also file your comments electronically using the eFiling feature on the Commission's website (www.ferc.gov) under the link to Documents and Filings. With eFiling, you can provide comments in a variety of formats by attaching them as a file with your submission. New eFiling users must first create an account by clicking on eRegister. You must select the type of filing you are making. If you are filing a comment on a particular project, please select Comment on a Filing;

(3) You can file a paper copy of your comments by mailing them to the following address. Be sure to reference the project docket numbers (CP15-550-000, CP15-551-000, and CP15-551-001) with your submission: Kimberly D. Bose, Secretary, Federal Energy Regulatory Commission, 888 First Street NE, Room 1A, Washington, DC 20426.

(4) In lieu of sending written or electronic comments, the Commission invites you to attend the public comment session its staff will conduct in the project area to receive comments on the draft EIS, scheduled as follows:

Date and time | Location
August 1, 2018 (4:00 p.m.-7:00 p.m. CST) | Cameron Parish School Board, Educational Conference Center, 510 Marshall Street, Cameron, Louisiana 70631, (337) 775-5784.

The primary goal of this comment session is to have you identify the specific environmental issues and concerns with the draft EIS. Individual verbal comments will be taken on a one-on-one basis with a court reporter. This format is designed to receive the maximum amount of verbal comments, in a convenient way during the timeframe allotted.

The comment session is scheduled from 4 p.m. to 7 p.m. CST. You may arrive at any time after 4 p.m. There will not be a formal presentation by Commission staff when the session opens. If you wish to speak, the Commission staff will hand out numbers in the order of your arrival; distribution of numbers will be discontinued at 6 p.m. However, if no additional numbers have been handed out and all individuals who wish to provide comments have had an opportunity to do so, staff may conclude the session at 6 p.m. Please see appendix 1 for additional information on the session format and conduct.¹

¹ The appendices referenced in this notice will not appear in the Federal Register. Copies of the appendices were sent to all those receiving this notice in the mail and are available at www.ferc.gov using the link called eLibrary or from the Commission's Public Reference Room, 888 First Street NE, Washington, DC 20426, or call (202) 502-8371. For instructions on connecting to eLibrary, refer to the last page of this notice.

Your verbal comments will be recorded by the court reporter (with FERC staff or representative present) and become part of the public record for this proceeding. Transcripts will be publicly available on FERC's eLibrary system (see below for instructions on using eLibrary). If a significant number of people are interested in providing verbal comments in the one-on-one settings, a time limit of 5 minutes may be implemented for each commentor.

It is important to note that verbal comments hold the same weight as written or electronically submitted comments. Although there will not be a formal presentation, Commission staff will be available throughout the comment session to answer your questions about the environmental review process.

Filing environmental comments will not give you intervenor status, but you do not need intervenor status to have your comments considered. However, only intervenors have the right to seek rehearing or judicial review of the Commission's decisions. Any person may seek to intervene on environmental grounds and thereby become a party to this proceeding by filing a motion to intervene that complies with the requirements in Rule 214 of the Commission's Rules of Practice and Procedures (18 CFR Part 385.214). Any such intervention must be filed within the comment period for the draft EIS to be deemed timely. Motions to intervene that are filed after the comment due date for the draft EIS are untimely and may be denied. Any late-filed motion to intervene must show good cause why the time limitation should be waived and provide justification by reference to factors set forth in Rule 214(d) of the Commission's Rules of Practice and Procedures (18 CFR part 385.214(b)(3) and (d)). The Commission strongly encourages electronic filing of interventions in lieu of paper using the eFiling feature described above, and available at http://www.ferc.gov. Persons unable to file electronically may submit a paper copy of the intervention to the Federal Energy Regulatory Commission, 888 First Street NE, Washington, DC 20426.

Questions?

Additional information about the project is available from the Commission's Office of External Affairs, at (866) 208-FERC, or on the FERC website (www.ferc.gov) using the eLibrary link. Click on the eLibrary link, click on General Search, and enter the docket number in the Docket Number field, excluding the last three digits (i.e., CP15-550; CP15-551). Be sure you have selected an appropriate date range. For assistance, please contact FERC Online Support at FercOnlineSupport@ferc.gov or toll free at (866) 208-3676; or for TTY, contact (202) 502-8659. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: June 22, 2018.
Nathaniel J. Davis, Sr.,
Deputy Secretary.

[FR Doc. 2018-13958 Filed 6-28-18; 8:45 am]

BILLING CODE 6717-01-P